DEPARTMENT OF ENERGY

10 CFR Part 431

[Docket No. EERE-2010-BT-STD-0003]

RIN 1904-AC19

Energy Efficiency Program for Consumer Products: Public Meeting and Availability of the Framework Document for Commercial Refrigeration Equipment

AGENCY: Office of Energy Efficiency and Renewable Energy, Department of Energy.

ACTION: Notice of public meeting and availability of the framework document.

SUMMARY: The U.S. Department of Energy (DOE) is initiating the rulemaking and data collection process to consider amended energy conservation standards for commercial refrigeration equipment (CRE). DOE will hold a public meeting to discuss and receive comments on its planned analytical approach and issues it will address in this rulemaking proceeding. DOE welcomes written comments and relevant data from the public on any subject within the scope of this rulemaking. To inform interested parties and to facilitate this process, DOE has prepared a framework document that details the analytical approach and identifies several issues on which DOE is particularly interested in receiving comment.

DATES: DOE will hold a public meeting on Tuesday, May 18, 2010, from 9 a.m. to 5 p.m. in Washington, DC. DOE must receive requests to speak at the public meeting before 4 p.m., Tuesday, May 11, 2010. DOE must receive an electronic copy of the statement with the name and, if appropriate, the organization of the presenter to be given at the public meeting before 4 p.m., Tuesday, May 11, 2010. DOE will accept written comments, data, and information regarding the framework document before and after the public meeting, but no later than June 7, 2010. DOE encourages all written comments, data and information to be submitted in electronic form.

ADDRESSES: The public meeting will be held at the U.S. Department of Energy, Forrestal Building, Room 8E-089, 1000 Independence Avenue, SW., Washington, DC 20585-0121. Please note that foreign nationals planning to participate in the public meeting are subject to advance security screening procedures. If a foreign national wishes to participate in the public meeting, please inform DOE of this fact as soon a possible by contacting Ms. Brenda Edwards at (202) 586-2945 so that the necessary procedures can be completed.

Interested parties are encouraged to submit comments electronically by the following methods:

• Federal eRulemaking Portal: http://www.regulations.gov. Follow the instructions for submitting comments.

• E-mail to the following address: CRE-2010-STD-0003@ee.doe.gov. Include docket number EERE-2010-BT-STD-0003 and/or RIN 1904-AC19 in the subject line of the message. All comments should clearly identify the name, address and, if appropriate, organization of the commenter.

Alternatively, interested parties may submit comments by the following methods:

• Mail: Ms. Brenda Edwards, U.S. Department of Energy, Building Technologies Program, Mailstop EE-2J, Framework Document for Commercial Refrigeration Equipment, Docket No. EERE-2010-BT-STD-0003 and/or RIN 1904-AC19, 1000 Independence Avenue, SW., Washington, DC 20585-0121. Please submit one signed paper original.

• Hand Delivery/Courier: Ms. Brenda Edwards, U.S. Department of Energy, Building Technologies Program, Sixth Floor, 950 L'Enfant Plaza, SW., Washington, DC 20024. Please submit one signed paper original.

Docket: For access to the docket to read background documents, a copy of the transcript of the public meeting, or comments received, go to regulations.gov. Alternatively, interested parties may go to the U.S. Department of Energy, Resource Room of the Building Technologies Program, Sixth Floor, 950 L'Enfant Plaza, SW., Washington, DC 20024, (202) 586-2945, between 9 a.m. and 4 p.m., Monday through Friday, except Federal holidays. Please call Ms. Brenda Edwards first at the above telephone number for additional information regarding visiting the Resource Room.

A copy of the framework document and a link to the Docket Web page is available at: http://www1.eere.energy.gov/buildings/appliance_standards/commercial/refrigeration_equipment.html.

FOR FURTHER INFORMATION CONTACT: Mr. Charles Llenza, U.S. Department of Energy, Office of Energy Efficiency and Renewable Energy, Building Technologies, EE-2J, 1000 Independence Avenue, SW., Washington, DC 20585-0121. Telephone: (202) 586-2192. E-mail: Charles_Llenza@ee.doe.gov.

Mr. Michael Kido or Ms. Elizabeth Kohl, U.S. Department of Energy, Office of the General Counsel, GC-71, 1000 Independence Avenue, SW., Washington, DC 20585-0121. Telephone: (202) 586-9507. E-mail: Michael.Kido@hq.doe.gov,Elizabeth.Kohl@hq.doe.gov.

For information on how to submit or review public comments and on how to participate in the public meeting, contact Ms. Brenda Edwards, U.S. Department of Energy, Office of Energy Efficiency and Renewable Energy, Building Technologies Program, EE-2J, 1000 Independence Avenue, SW., Washington, DC, 20585-0121. Telephone (202) 586-2945. E-mail: Brenda.Edwards@ee.doe.gov.

SUPPLEMENTARY INFORMATION: Part A of the Energy Policy and Conservation Act of 1975 (EPCA), Public Law 94-163, (42 U.S.C. 6291-6309) established the Energy Conservation Program for Consumer Products Other Than Automobiles, a program covering most major household appliances. Part A-1 of Title III (42 U.S.C. 6311-6317) establishes a similar program for “Certain Industrial Equipment,” which includes the commercial refrigeration equipment that is the focus of this notice.¹

¹ These two parts were titled Parts B and C in EPCA, but were codified as Parts A and A-1 in the United States Code for editorial reasons.

Amendments to EPCA in the Energy Policy Act of 2005 (EPACT 2005), Public Law 109-58, prescribed energy conservation standards for some commercial refrigeration equipment. (42 U.S.C. 6313(c)(2)-(3)) A summary of these standards can also be found in section 1.4 of the framework document.

In addition, Section 136(c)(4)(A) of EPACT 2005 amended EPCA to mandate that DOE set standards for the following additional categories of commercial refrigeration equipment: Ice-cream freezers; self-contained commercial refrigerators, freezers, and refrigerator-freezers without doors; and remote condensing commercial refrigerators, freezers, and refrigerator-freezers (42 U.S.C. 6313(c)(4)(A)). DOE undertook a rulemaking process beginning in April 2006, when it published a Rulemaking Framework for Commercial Refrigeration Equipment Including Ice-Cream Freezers; Self-Contained Commercial Refrigerators, Freezers, and Refrigerator-Freezers without doors; and Remote Condensing Commercial Refrigerators, Freezers, and Refrigerator-Freezers. The final rule was published on January 9, 2009. (74 FR 1091).

The EPACT 2005 amendments to EPCA also require DOE to conduct two cycles of rulemakings to determine whether to amend the standards for commercial refrigeration, both those prescribed by EPACT 2005 and those prescribed by DOE. (42 U.S.C. 6313(c)(5)(A)-(B)). In the first cycle, the subject of this rulemaking, DOE must publish a final rule establishing such amended standards by January 1, 2013 if DOE determines to amend the standards. (42 U.S.C. 6313(c)(5)(A)). Any amended standards adopted by DOE would apply to products manufactured three years or more after the date of publication, except that if DOE decides that a three-year period is inadequate, it shall provide a longer period not to exceed five years. (42 U.S.C. 6313(c)(5)(C)). This framework document is being published as a first step in meeting these statutory requirements.

DOE also considered standby and off mode for commercial refrigeration equipment and does not currently believe that these modes of operation are applicable to this equipment. As described in more detail in the framework document, commercial refrigeration equipment generally operates continuously. DOE plans, however, to examine the issue and address standby and off mode energy use in the analyses conducted over the course of the energy conservation standards rulemaking.

To initiate this rulemaking cycle for the consideration of amended energy conservation standards for commercial refrigeration equipment, DOE has prepared a framework document to explain the relevant issues, analyses, and processes it anticipates using to determine whether to amend the standards, and, if so, for the development of such amended standards. The focus of the public meeting noted above will be to discuss the analyses presented and issues identified in the framework document. At the public meeting, DOE will make a number of presentations, invite discussion on the rulemaking process as it applies to commercial refrigeration equipment, and solicit comments, data, and information from participants and other interested parties.

DOE is planning to conduct in-depth technical analyses in the following areas: (1) Engineering; (2) energy-use characterization; (3) product price; (4) life-cycle cost (LCC) and payback period (PBP); (5) national impacts analysis (NIA); (6) manufacturer impact analysis; (7) utility impact analysis; (8) employment impact analysis; (9) environmental assessment; and (10) regulatory impact analysis. DOE will also conduct several other analyses that support those previously listed, including the market and technology assessment, the screening analysis (which contributes to the engineering analysis), and the shipments analysis (which contributes to the national impact analysis).

DOE encourages those who wish to participate in the public meeting to obtain the framework document and to be prepared to discuss its contents. A copy of the draft framework document is available at: http://www1.eere.energy.gov/buildings/appliance_standards/commercial/refrigeration_equipment.html.

Public meeting participants need not limit their comments to the issues identified in the framework document. DOE is also interested in comments on other relevant issues that participants believe would affect energy conservation standards for this equipment, applicable test procedures, or the preliminary determination on the scope of coverage. DOE invites all interested parties, whether or not they participate in the public meeting, to submit in writing by June 7, 2010, comments and information on matters addressed in the framework document and on other matters relevant to DOE's consideration of amended standards for commercial refrigeration equipment.

The public meeting will be conducted in an informal, facilitated, conference style. There shall be no discussion of proprietary information, costs or prices, market shares, or other commercial matters regulated by U.S. antitrust laws. A court reporter will record the proceedings of the public meeting, after which a transcript will be available for purchase from the court reporter and placed on the DOE Web site at: http://www.eere.energy.gov/buildings/appliance_standards/commercial/refrigeration_equipment.html.

After the public meeting and the close of the comment period on the framework document, DOE will begin collecting data, conducting the analyses as discussed in the framework document and at the public meeting, and reviewing the public comments it receives.

DOE considers public participation to be a very important part of the process for determining whether to amend energy conservation standards, and if so, in setting those amended standards. DOE actively encourages the participation and interaction of the public during the comment period in each stage of the rulemaking process. Beginning with the framework document, and during each subsequent public meeting and comment period, interactions with and between members of the public provide a balanced discussion of the issues to assist DOE in the standards rulemaking process. Accordingly, anyone who wishes to participate in the public meeting, receive meeting materials, or be added to the DOE mailing list to receive future notices and information about this rulemaking should contact Ms. Brenda Edwards at (202) 586-2945, or via e-mail at Brenda.Edwards@ee.doe.gov.

Issued in Washington, DC, on April 30, 2010.
Cathy Zoi,
Assistant Secretary, Energy Efficiency and Renewable Energy.

[FR Doc. 2010-10655 Filed 5-5-10; 8:45 am]

BILLING CODE 6450-01-P